DEPARTMENT OF TRANSPORTATION

Federal Motor Carrier Safety Administration

[Docket No. FMCSA-2006-24264]

Agency Information Collection Activities; Request for Comment; Renewal of Existing Information Collection: Annual and Quarterly Reports of Class I Motor Carriers of Passengers (Formerly OMB 2139-0003)

AGENCY: Federal Motor Carrier Safety Administration (FMCSA), DOT.

ACTION: Notice and request for comments; correction.

SUMMARY: On April 10, 2006, FMCSA published a notice and request for comments in the Federal Register (71 FR 18136), announcing its plan to submit to the Office of Management and Budget (OMB) a request to renew a currently-approved information collection for Class I Motor Carriers of Passengers, Form MP-1, Annual and Quarterly Reports. This notice corrects the docket number published in the April 10, 2006, notice.

FOR FURTHER INFORMATION CONTACT: Ms. Toni Proctor, Office of Research and Analysis, Federal Motor Carrier Safety Administration, 400 Seventh Street, SW., Washington, DC 20590; phone: (202) 366-2998; fax: (202) 366-3518; e-mail: toni.proctor@fmcsa.dot.gov.

SUPPLEMENTARY INFORMATION: FMCSA published a notice and request for comments in the Federal Register on April 10, 2006. In that document, FMCSA announced its plan to submit to OMB a request to renew a currently-approved information collection for Class I Motor Carriers of Passengers, Form MP-1, Annual and Quarterly Reports. That notice included an incorrect docket number (FMCSA-2006-24624) in both the heading and the addresses section. This correction notice provides the accurate docket number (FMCSA-2006-24264) for this matter.

Issued on: May 2, 2006.
Warren E. Hoemann,
Acting Administrator.

[FR Doc. E6-7045 Filed 5-8-06; 8:45 am]

BILLING CODE 4910-EX-P